DEPARTMENT OF THE INTERIOR

Bureau of Land Management

[UTU-73528, UTU-73529, UTU-73530]

Utah; Proposed Reinstatement of Terminated Oil and Gas Leases

In accordance with Title IV of the Federal Oil and Gas Royalty Management Act (Pub. L. 97-451), a petition for reinstatement of oil and gas lease UTU-73528, UTU-53529, and UTU-73530 for lands in Sevier County, Utah, was timely filed and required rentals accruing from April 1, 2000, the date of termination, have been paid.

The lessee has agreed to new lease terms for rentals and royalties at rates of $5 per acre and 16⅔ percent, respectively. The $500 administrative fee for each lease has been paid and the lessee has reimbursed the Bureau of Land Management for the cost of publishing this notice.

Having met all the requirements for reinstatement of the leases as set out in section 31(d) and (e) of the Mineral Leasing Act of 1920 (30 U.S.C. 188), the Bureau of Land Management is proposing to reinstate leases UTU-73528, UTU-73529, and UTU-73530, effective April 1, 2000, subject to the original terms and conditions of the leases and the increased rental and royalty rates cited above.

Robert Lopez,
Chief, Branch of Minerals Adjudication.

[FR Doc. 00-21165 Filed 8-18-00; 8:45 am]

BILLING CODE 4310-$$-M